NATIONAL SCIENCE FOUNDATION

Notice of Permit Modification Received Under the Antarctic Conservation Act of 1978

AGENCY: National Science Foundation.

ACTION: Notice of Permit Modification Request Received under the Antarctic Conservation Act of 1978, Public Law 95-541.

SUMMARY: The National Science Foundation (NSF) is required to publish a notice of requests to modify permits issued to conduct activities regulated under the Antarctic Conservation Act of 1978. NSF has published regulations under the Antarctic Conservation Act at Title 45 part 670 of the Code of Federal Regulations. This is the required notice of a requested permit modification.

DATES: Interested parties are invited to submit written data, comments, or views with respect to this permit application by November 10, 2014. Permit applications may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

Description of Permit Modification Requested: The Foundation issued a permit (ACA 2014-006) to Eric Stangeland of Quark Expeditions on September 18, 2013. The issued permit allows the applicant to conduct waste management activities associated with tourism activities including shore excursions, kayaking, camping, cross country skiing, ice climbing and mountaineering in the Antarctic Peninsula region. Mitigation measures are in place to reduce the risk of non-native species introductions and the risk of spills.

A recent modification to this permit, dated February 13, 2014, permitted the applicant to allow for the conduct of waste management activities associated with conducting ice swimming and remote controlled camera copter activities.

Now the applicant proposes a modification to his permit to allow for the conduct of waste management activities associated with downhill skiing, polar plunging, and stand up paddleboarding (SUPing).

The SUPing activity would consist of up to 10 passengers per excursion. Quark staff would maintain a watch for leopard seals and killer whales and abort the activity if these animals are sighted. SUPers would be accompanied by 2 Quark staff, one on a SUP and one in a zodiac in case of emergency. Mitigation measures would be in place to reduce the risk of non-native species introductions and the risk of spills ashore.

The polar plunge activity would consist of participants entering the water wearing a bathing suit, for about 5-15 seconds. This activity would take place either away from land, with passengers wearing a safety belt, tethered to the ship, or from a beach landing. A safety zodiac with at least two staff members will be deployed and staff would maintain a watch for leopard seals and killer whales and abort the activity if these animals are sighted. If the activity requires a beach landing, mitigation measures would be in place to reduce the risk of non-native species introductions and the risk of spills ashore.

The downhill ski activity is the same as was described for the one-off activity detailed in the applicant's original permit application. The applicant wishes to carry out this activity again this season, and in future seasons depending on passenger demand.

Location: Antarctic Peninsula Region.

DATES: (that the mod would be valid) November 1, 2014 to March 31, 2017.

Nadene G. Kennedy,
Polar Coordination Specialist, Division of Polar Programs.

[FR Doc. 2014-24109 Filed 10-8-14; 8:45 am]

BILLING CODE 7555-01-P